DEPARTMENT OF THE INTERIOR

National Park Service

General Management Plan, Final Environmental Impact Statement, Coronado National Memorial, Arizona

AGENCY: National Park Service, Department of the Interior.

ACTION: Notice of Availability of a Final Environmental Impact Statement/General Management Plan, Coronado National Memorial.

SUMMARY: Pursuant to the National Environmental Policy Act of 1969, 42 U.S.C. 4332 (C) the National Park Service announces the availability of a Final Environmental Impact Statement and General Management Plan (FEIS/GMP) for Coronado National Memorial, Arizona.

DATES: The National Park Service will execute a Record of Decision (ROD) no sooner than 30 days following publication by the Environmental Protection Agency of the notice of availability of the Final Environmental Impact Statement.

ADDRESSES: Information will be available for public inspection in the office of the Superintendent, and at the following location, Coronado National Memorial Visitor Center, Coronado National Memorial, 4101 East Montezuma Road, Hereford, AZ 85615, Telephone: (520) 366-5515.

FOR FURTHER INFORMATION CONTACT: John Paige, National Park Service, Denver Service Center-Planning Division, National Park Service, 12795 West Alameda Parkway, P.O. Box 25287, Denver, CO 80225-0287, Telephone: (303) 969-2356.

Dated: February 12, 2004.
Michael D. Synder,
Deputy Director, Intermountain Region, National Park Service.

[FR Doc. 04-7132 Filed 3-30-04; 8:45 am]

BILLING CODE 4312-DP-P